DEPARTMENT OF ENERGY

Federal Energy Regulatory Commission

[Project No. 13753-002; Project No. 13762-002; Project No. 13771-002; Project No. 13763-002; Project No. 13766-002; Project No. 13767-002]

FFP Missouri 16, LLC; FFP Missouri 15, LLC; Solia 8 Hydroelectric, LLC; FFP Missouri 13, LLC; Solia 5 Hydroelectric, LLC ; Solia 4 Hydroelectric, LLC; Notice of Scoping Meetings and Environmental Site Reviews and Soliciting Scoping Comments

Take notice that the following hydroelectric applications have been filed with Commission and are available for public inspection:

a. Type of Applications: Original Major Licenses.

b. Project Nos.: 13753-002; 13762-002; 13771-002; 13763-002; 13766-002; 13767-002.

c. Date filed: February 27, 2014.

d. Applicant: FFP Missouri 16, LLC; FFP Missouri 15, LLC; Solia 8 Hydroelectric, LLC; FFP Missouri 13, LLC; Solia 5 Hydroelectric, LLC; Solia 4 Hydroelectric, LLC.

e. Name of Projects: Opekiska Lock and Dam Hydroelectric Project; Morgantown Lock and Dam Hydroelectric Project; Point Marion Lock and Dam Hydroelectric Project; Grays Landing Lock and Dam Hydroelectric Project; Maxwell Lock and Dam Hydroelectric Project; and Monongahela Lock and Dam Number Four Hydroelectric Project.

f. Location: The proposed projects would be located at U.S. Army Corps of Engineers' (Corps) dams on the Monongahela River in Monongalia County, West Virginia and Fayette, Greene, and Washington counties, Pennsylvania (see table below for specific locations). The projects would occupy 39.75 acres of federal land managed by the Corps.

| Projects | County and State | City/town | Federal land used by project ¹ (acres)
P-13753 | Opekiska Lock and Dam | Monongalia, WV | Between Fairmont and Morgantown | 10.1
P-13762 | Morgantown Lock and Dam | Monongalia, WV | Morgantown | 0.99
P-13771 | Point Marion Lock and Dam | Fayette, PA | Point Marion | 1.44
P-13763 | Grays Landing Lock and Dam | Greene, PA | Near Masontown | 15.5
P-13766 | Maxwell Lock and Dam | Washington, PA | Downstream of Fredericktown | 10.4
P-13767 | Monongahela Lock and Dam Number Four | Washington, PA | Charleroi | 1.32

g. Filed Pursuant to: Federal Power Act, 16 U.S.C. 791(a)-825(r).

h. Applicant Contact: Thomas Feldman, Rye Development, LLC, PO Box 390691, Cambridge, MA 02139; or at (617) 433-8140.

i. FERC Contact: Nicholas Ettema, (202) 502-6565 or nicholas.ettema@ferc.gov.

j. Deadline for filing scoping comments: November 10, 2014.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number (e.g., P-13753-002).

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application is not ready for environmental analysis at this time.

l. The proposed Opekiska Lock and Dam Hydroelectric Project would be the most upstream project at river mile (RM) 115.4 and would consist of the following new facilities: (1) A 180-foot-long, 95-foot-wide intake channel directing flow to a 30-foot-long, 50-foot-high, 70-foot-wide intake structure with 3-inch bar spacing trashracks; (2) a 120-foot-long, 60-foot-high, 70-foot-wide reinforced concrete powerhouse on the west bank of the river; (3) two turbine-generator units with a combined capacity of 6.0 megawatts (MW); (4) a 280-foot-long, 64-foot-wide tailrace; (5) a 40-foot-long by 40-foot-wide substation; (6) a 3,511-foot-long, 12.5-kilovolt (kV), overhead transmission line to connect the project substation to an existing distribution line; and (7) appurtenant facilities.

The proposed Morgantown Lock and Dam Hydroelectric Project would be located at RM 102.0 and consist of the following new facilities: (1) A 100-foot-long, 64-foot-wide intake channel located downstream of the Corp's 6th spillway gate on the east side of the river; (2) a pair of spill gates totaling 60 feet wide located within the intake channel; (3) a 30-foot-long, 50-foot-high, 64-foot-wide intake structure with 3-inch bar spacing trashracks; (2) a 120-foot-long, 60-foot-high, 70-foot-wide reinforced concrete powerhouse; (3) two turbine-generator units with a combined capacity of 5.0 MW; (4) a 170-foot-long, 90-foot-wide tailrace; (5) a 40-foot-long by 40-foot-wide substation; (6) a 2,162-foot-long, 12.5-kV, overhead transmission line to connect the project substation to an existing distribution line; and (7) appurtenant facilities.

The proposed Point Marion Lock and Dam Hydroelectric Project would be located at RM 90.8 and consist of the following new facilities: (1) A 280-foot-long, 70-foot-wide intake channel directing flow to a 30-foot-long, 50-foot-high, 70-foot-wide intake structure with 3-inch bar spacing trashracks; (2) a 120-foot-long, 60-foot-high, 70-foot-wide reinforced concrete powerhouse on the east bank of the river; (3) two turbine-generator units with a combined capacity of 5.0 MW; (4) a 215-foot-long, 84-foot-wide tailrace; (5) a 40-foot-long by 40-foot-wide substation; (6) a 3,325-foot-long, 69-kV, overhead transmission line to connect the project substation to an existing substation; and (7) appurtenant facilities.

The proposed Grays Landing Lock and Dam Hydroelectric Project would be located at RM 82.0 and consist of the following new facilities: (1) A 300-foot-long, 130-foot-wide intake channel directing flow to a 100-foot-long, 84-foot-wide intake structure with 3-inch bar spacing trashracks; (2) a 576-foot-long, 2.5-foot-high adjustable crest gate on top of the existing dam crest; (3) a 150-foot-long, 75-foot-high, 90-foot-wide reinforced concrete powerhouse on the west bank of the river; (4) two turbine-generator units with a combined capacity of 12.0 MW; (5) a 250-foot-long, 84-foot-wide tailrace; (6) a 40-foot-long by 40-foot-wide substation; (7) a 9,965-foot-long, 69-kV, overhead transmission line to connect the project substation to an existing distribution line; and (8) appurtenant facilities.

The proposed Maxwell Lock and Dam Hydroelectric Project would be located at RM 61.2 and consist of the following new facilities: (1) A 130-foot-long, 85-foot-wide intake channel located immediately downstream of the Corps' 5th spillway gate on the east side of the river; (2) a pair of spill gates totaling 84 feet wide located within the proposed intake channel; (3) a 100-foot-long, 70-foot-high, 85-foot-wide intake structure with 3-inch bar spacing trashracks; (4) a 150-foot-long, 70-foot-high, 90-foot-wide reinforced concrete powerhouse; (5) two turbine-generator units with a combined capacity of 13.0 MW; (6) a 160-foot-long, 120-foot-wide tailrace; (7) a 40-foot-long by 40-foot-wide substation; (8) a 350-foot-long, 69/138-kV, overhead transmission line to connect the project substation to an existing distribution line; and (9) appurtenant facilities.

The proposed Monongahela Lock and Dam Number Four (Charleroi) Hydroelectric Project would be located at RM 41.5 and consist of the following new facilities: (1) A 140-foot-long, 90-foot-wide intake channel located immediately downstream of the Corps' 5th spillway gate on the west side of the river; (2) a pair of spill gates totaling 84 feet wide located within the proposed intake channel; (3) a 100-foot-long, 64-foot-high, 90-foot-wide intake structure with 3-inch bar spacing trashracks; (4) a 150-foot-long, 70-foot-high, 90-foot-wide reinforced concrete powerhouse; (5) two turbine-generator units with a combined capacity of 12.0 MW; (6) a 210-foot-long, 130-foot-wide tailrace; (7) a 40-foot-long by 40-foot-wide substation; (8) a 45-foot-long, 69-kV, overhead transmission line to connect the project substation to an existing distribution line; and (9) appurtenant facilities.

The applicants propose to operate the six projects in “run-of-river” mode, using only the existing flows that would normally be released through the Corps' gates or spillway. Existing water surface elevations of each pool upstream of the dams would be maintained in accordance with the Corps' existing management practices. The Opekiska, Morgantown, Point Marion, Gray's Landing, Maxwell, and Charleroi projects would produce an annual average of 25,300 megawatt-hours (MWh), 18,900 MWh, 16,500 MWh, 47,300 MWh, 56,800 MWh, and 48,500 MWh, respectively.

m. A copy of each application is available for review at the Commission in the Public Reference Room or may be viewed on the Commission's Web site at http://www.ferc.gov using the “eLibrary” link. Enter the docket number excluding the last three digits in the docket number field to access the document. For assistance, contact FERC Online Support. Copies are also available for inspection and reproduction at the address in item h above.

You may also register online at http://www.ferc.gov/docs-filing/esubscription.asp to be notified via email of new filings and issuances related to this or other pending projects. For assistance, contact FERC Online Support.

n. Scoping Process

The Commission intends to prepare an environmental assessment (EA) on the projects in accordance with the National Environmental Policy Act. The EA will consider both site-specific and cumulative environmental impacts and reasonable alternatives to the proposed action.

Scoping Meetings

FERC staff will conduct one agency scoping meeting and two public meetings. The agency scoping meeting will focus on resource agency and non-governmental organization concerns, while the public scoping meetings are primarily for public input. All interested individuals, organizations, and agencies are invited to attend one or all of the meetings, and to assist the staff in identifying the scope of the environmental issues that should be analyzed in the EA. The times and locations of these meetings are as follows:

Public Scoping Meetings

Date: Tuesday, October 7, 2014.

Time: 7:00 p.m. (EDT).

Place: Hilton Garden Inn Morgantown.

Address: 150 Suncrest Towne Centre Drive, Morgantown, WV 26505, (304) 225-9500.

Date: Wednesday, October 8, 2014.

Time: 7:00 p.m. (EDT).

Place: Holiday Inn Uniontown.

Address: 700 W Main Street, Uniontown, PA 15401, (724) 437-2816.

Agency Scoping Meeting

Date: Friday, October 10, 2014.

Time: 9:30 a.m. (EDT).

Place: DoubleTree by Hilton Hotel Pittsburgh—Green Tree.

Address: 500 Mansfield Avenue, Pittsburgh, PA 15205, (412) 922-8400.

Copies of the Scoping Document (SD1) outlining the subject areas to be addressed in the EA were distributed to the parties on the Commission's mailing list. Copies of the SD1 will be available at the scoping meeting or may be viewed on the Web at http://www.ferc.gov using the “eLibrary” link (see item m above).

Environmental Site Reviews

The Applicant and FERC staff will conduct a project Environmental Site Review for each project. The times and locations of these meetings are as follows:

Project: Morgantown Lock and Dam.

Date: Tuesday, October 7, 2014.

Time: 2:00 p.m. (EDT).

Location: Parking area at the north end of the Mountaineer Heritage Park, Morgantown, WV 26505.

Project: Opekiska Lock and Dam.

Date: Tuesday, October 7, 2014.

Time: 3:30 p.m. (EDT).

Location: Corps' parking area on the west side of the river accessible via River Road (Route 45), Fairmont, WV 26554.

Project: Point Marion Lock and Dam.

Date: Wednesday, October 8, 2014.

Time: 9:00 a.m. (EDT).

Location: Parking area at the Point Marion Ballfield on the east side of the river, Point Marion, PA 15474.

Project: Gray's Landing Lock and Dam.

Date: Wednesday, October 8, 2014.

Time: 10:30 a.m. (EDT).

Location: Corps' parking area on east side of the river, Masontown, PA 15461.

Project: Maxwell Lock and Dam.

Date: Wednesday, October 8, 2014.

Time: 1:30 p.m. (EDT).

Location: End of 4th Street on southwest side of the river, La Belle, PA 15450.

Project: Monongahela Lock and Dam Number Four (Charleroi).

Date: Wednesday, October 8, 2014.

Time: 3:00 p.m. (EDT).

Location: End of 12th Street on west side of the river, Charleroi, PA 15022.

All interested individuals, organizations, and agencies are invited to attend. All participants should meet at the time and location specified above. All participants are responsible for their own transportation to the site. Anyone with questions about the Environmental Site Reviews should contact Thomas Feldman of Rye Development, LLC at (617) 433-8140 on or before October 3, 2014.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EA.

Dated: September 22, 2014.
Nathaniel J. Davis, Sr.,
Deputy Secretary.

[FR Doc. 2014-23216 Filed 9-29-14; 8:45 am]

BILLING CODE 6717-01-P